DEPARTMENT OF ENERGY

Federal Energy Regulatory Commission

[Project No. 14504-001]

FFP Project 121, LLC; Notice of Intent To File License Application, Filing of Pre-Application Document, and Approving Use of the Traditional Licensing Process

a. Type of Filing: Notice of Intent to File License Application and Request to Use the Traditional Licensing Process.

b. Project No.: 14504-001.

c. Date Filed: July 26, 2016.

d. Submitted By: Rye Development, LLC on behalf of FFP Project 121, LLC.

e. Name of Project: New Cumberland Locks and Dam Hydroelectric Project.

f. Location: At the existing Army Corps of Engineers' New Cumberland Locks and Dam on the Ohio River in Jefferson County, Ohio and Hancock County, West Virginia. The project would occupy United States lands administered by the U.S. Army Corps of Engineers.

g. Filed Pursuant to: 18 CFR 5.3 of the Commission's regulations.

h. Applicant Contact: Mr. Erik Steimle, Vice President—Development, Rye Development, LLC, 334 NW 11th Ave., Portland, OR 97209; (503) 998-0230; email: erik@ryedevelopment.com.

i. FERC Contact: Andy Bernick at (202) 502-8660; or email at andrew.bernick@ferc.gov.

j. FFP Project 121, LLC filed its request to use the Traditional Licensing Process on July 26, 2016. FFP Project 121, LLC provided public notice of its request on July 29 through August 4, 2016. In a letter dated September 6, 2016, the Director of the Division of Hydropower Licensing approved FFP Project 121, LLC's request to use the Traditional Licensing Process.

k. With this notice, we are initiating informal consultation with the U.S. Fish and Wildlife Service under section 7 of the Endangered Species Act and the joint agency regulations thereunder at 50 CFR, Part 402; and NOAA Fisheries under section 305(b) of the Magnuson-Stevens Fishery Conservation and Management Act and implementing regulations at 50 CFR 600.920. We are also initiating consultation with the Ohio and West Virginia State Historic Preservation officers, as required by section 106, National Historic Preservation Act, and the implementing regulations of the Advisory Council on Historic Preservation at 36 CFR 800.2.

l. With this notice, we are designating FFP Project 121, LLC as the Commission's non-federal representative for carrying out informal consultation pursuant to section 7 of the Endangered Species Act and section 305(b) of the Magnuson-Stevens Fishery Conservation and Management Act; and consultation pursuant to section 106 of the National Historic Preservation Act.

m. FFP Project 121, LLC filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCOnlineSupport@ferc.gov, (866) 208-3676 (toll free), or (202) 502-8659 (TTY). A copy is also available for inspection and reproduction at the address in paragraph h.

o. Register online at http://www.ferc.gov/docs-filing/esubscription.asp to be notified via email of new filing and issuances related to this or other pending projects. For assistance, contact FERC Online Support.

Dated: September 6, 2016.
Kimberly D. Bose,
Secretary.

[FR Doc. 2016-22015 Filed 9-13-16; 8:45 am]

BILLING CODE 6717-01-P